DEPARTMENT OF THE TREASURY

Internal Revenue Service

26 CFR Parts 1 and 602

[TD 9465]

RIN 1545-BF71

Determination of Interest Expense Deduction of Foreign Corporations; Correction

AGENCY: Internal Revenue Service (IRS), Treasury.

ACTION: Correction to final regulations.

SUMMARY: This document contains a correction to final regulations (TD 9465) that were published in the Federal Register on Monday, September 28, 2009 (74 FR 49315) concerning the determination of the interest expense deduction of foreign corporations engaged in a trade or business within the United States. These final regulations conform the interest expense rules to recent U.S. Income Tax Treaty agreements and adopt other changes to improve compliance.

DATES: This correction is effective on November 5, 2009, and is applicable on September 28, 2009.

FOR FURTHER INFORMATION CONTACT: Anthony J. Marra, (202) 622-3870 (not a toll-free number).

SUPPLEMENTARY INFORMATION:

Background

The final regulations (TD 9465) that are the subject of this document are under sections 882 and 884 of the Internal Revenue Code.

Need for Correction

As published, the final regulations (TD 9465) contain an error that may prove to be misleading and is in need of clarification.

Correction of Publication

Accordingly, the publication of the final regulations (TD 9465), which were the subject of FR Doc. E9-22867, is corrected as follows:

On page 49315, column 3, in the preamble, under the caption DATES, the language “These final regulations are effective September 28, 2009.” is corrected to read “Effective Date: These final regulations are effective on September 28, 2009.

Applicability Date: These final regulations are applicable for taxable years ending on or after August 15, 2009. A taxpayer may choose to apply the temporary regulations (TD 9281, 71 FR 47443), rather than applying the final regulations, for any taxable year beginning on or after August 16, 2008, but before August 15, 2009.”.

LaNita Van Dyke,
Chief, Publications and Regulations Branch, Legal Processing Division, Associate Chief Counsel, Procedure and Administration.

[FR Doc. E9-26272 Filed 11-4-09; 8:45 am]

BILLING CODE 4830-01-P